DEPARTMENT OF VETERANS AFFAIRS

Special Medical Advisory Group; Notice of Meeting

The Department of Veterans Affairs (VA) gives notice under the Federal Advisory Committee Act, 5 U.S.C. App. 2, that the Special Medical Advisory Group (Group) will meet on May 13, 2015, in Room 830 at VA Central Office, 810 Vermont Avenue NW., Washington, DC, from 8:30 a.m. to 3:45 p.m. The meeting is open to the public.

The purpose of the Group is to advise the Secretary of Veterans Affairs and the Under Secretary for Health on the care and treatment of disabled Veterans, and other matters pertinent to the Department's Veterans Health Administration (VHA).

The agenda for the meeting will include clarification of the roles and expectations for the reconstituted Group, the current state of the VA presented by the Interim Under Secretary of Health, discussion regarding various options/enhancements available to VA to provide quality care and access to Veterans, and a discussion regarding the Interagency Collaborations between Department of Defense and VA to provide quality care and access for transitioning Servicemembers/Veterans.

There will be time for public comment from 3:00 p.m. until 3:30 p.m.; however, members of the public may also submit written statements for review by the Group to Barbara Hyduke, Designated Federal Officer, Department of Veterans Affairs, Office of Patient Care Services (10P4), Veterans Health Administration, 810 Vermont Avenue NW., Washington, DC 20420, or by email at Barbara.Hyduke@va.gov. Because the meeting is being held in a government building, a photo I.D. must be presented at the Guard's Desk as a part of the clearance process; therefore, you should allow an additional 15 minutes before the meeting begins for a security check. Any member of the public wishing to attend the meeting or seeking additional information should contact Ms. Hyduke at (202) 461-7800 or by email.

Dated: March 23, 2015.
Rebecca Schiller,
Advisory Committee Management Officer.

[FR Doc. 2015-07021 Filed 3-26-15; 8:45 am]

BILLING CODE 8320-01-P